DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting.

SUMMARY: Notice is hereby given of a public in-person meeting of the U. S. Integrated Ocean Observing System (IOOS®) Advisory Committee (Committee).

DATES: The meeting will be held on Tuesday February 11, 2020 from 9:00 a.m. to 5:00 p.m. EST and Wednesday February 12, 2020 from 9:00 a.m. to 3:00 p.m. EST. These times and the agenda topics described below are subject to change. Refer to the web page listed below for the most up-to-date agenda and dial-in information.

ADDRESSES: The meeting will be held at the Consortium for Ocean Leadership, 1201 New York Avenue NW, 4th Floor Conference Rooms AB&C, Washington, DC 20005. Refer to the web page listed below for the most up-to-date information.

FOR FURTHER INFORMATION CONTACT: Krisa Arzayus, Designated Federal Official, U.S. IOOS Advisory Committee, U.S. IOOS Program, 1315 East-West Highway, Silver Spring, MD 20910; Phone 240-533-9455; Fax 301-713-3281; Email krisa.arzayus@noaa.gov or visit the U.S. IOOS Advisory Committee website at http://ioos.noaa.gov/community/u-s-ioos-advisory-committee/.

SUPPLEMENTARY INFORMATION: The Committee was established by the NOAA Administrator as directed by Section 12304 of the Integrated Coastal and Ocean Observation System Act, part of the Omnibus Public Land Management Act of 2009 (Pub. L. 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on:

(a) Administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 15-minute public comment period on February 11, 2020, from 4:45 p.m. to 5:00 p.m. and on February 12, 2020 from 2:30 p.m.-2:45 p.m. (check agenda on website to confirm time.) The Committee expects that public statements presented at its meetings will not be repetitive of previously submitted verbal or written statements. In general, each individual or group making a verbal presentation will be limited to a total time of three (3) minutes. Written comments should be received by the Designated Federal Official by January 29, 2020 to provide sufficient time for Committee review. Written comments received after January 29, 2020 will be distributed to the Committee, but may not be reviewed prior to the meeting date. Please send your name as it appears on driver's license and the organization/company affiliation you represent to Krisa Arzayus. This information must be received by January 29, 2020.

Matters to be Considered: The meeting will focus on ongoing committee priorities, and developing the next set of recommendations. The latest version of the agenda will be posted at http://ioos.noaa.gov/community/u-s-ioos-advisory-committee/.

Special Accomodations: These meetings are physically accessible to people with disabilities. Requests for sign language interpretation or other auxiliary aids should be directed to Krisa Arzayus, Designated Federal Official at 240-533-9455 by January 29, 2020.

Dated: December 19, 2019.
Carl C. Gouldman,
Director, U.S. IOOS Program, National Ocean Service.

[FR Doc. 2020-01128 Filed 1-23-20; 8:45 am]

BILLING CODE P